DEPARTMENT OF HEALTH AND HUMAN SERVICES

Health Resources and Services Administration

Agency Information Collection Activities: Proposed Collection: Public Comment Request; Information Collection Request Title: Ryan White HIV/AIDS Program Client-Level Data Reporting System, OMB No. 0906-0039—Extension

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than October 12, 2021.

ADDRESSES: Submit your comments to paperwork@hrsa.gov or by mail to the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information collection request title for reference, pursuant to Section 3506(c)(2)(A), the Paperwork Reduction Act of 1995.

Information Collection Request Title: Ryan White HIV/AIDS Program Client-Level Data Reporting System: OMB No. 0906-0039—Extension.

Abstract: The Ryan White HIV/AIDS Program (RWHAP), authorized under Title XXVI of the Public Health Service Act, is administered by HRSA's HIV/AIDS Bureau. HRSA awards funding to recipients in areas of the greatest need to respond effectively to the changing HIV epidemic, with an emphasis on providing life-saving and life-extending medical care, treatment, and support services for people living with HIV in the United States.

RWHAP reporting requirements include the annual submission of client-level data in the RWHAP Services Report (RSR). RSR collects information from grant recipients and their subcontracted service providers, funded under Parts A, B, C, and D of the RWHAP legislation. HRSA is requesting an extension of the current RSR with no changes.

Need and Proposed Use of the Information: RWHAP legislation specifies HRSA's responsibilities in administering grant funds, allocating funding, assessing HIV care outcomes (e.g., viral suppression), and serving particular populations. RSR collects data on the characteristics of RWHAP-funded recipients, their contracted service providers, and the patients or clients served. RSR system consists of two primary components, the Recipient Report and the Provider Report, and a data file containing the client-level data elements. Data is submitted annually. RWHAP legislation specifies the importance of recipient accountability and linking performance to budget. RSR is used to ensure recipient compliance with the law, including evaluating the effectiveness of programs, monitoring recipient and provider performance, and informing annual reports to Congress. Information collected through the RSR is critical for HRSA, state and local grant recipients, and individual providers to assess the status of existing HIV-related service delivery systems, assess trends in service utilization, assess the impact of data reporting and identify areas of greatest need.

Likely Respondents: RWHAP grant recipients, as well as their subcontracted service providers, funded under RWHAP parts A, B, C, and D.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Recipient Report | 595 | 1 | 595 | 11 | 6,545
Provider Report | 2,063 | 1 | 2,063 | 13 | 26,819
Client Report | 1,532 | 1 | 1,532 | 113 | 173,116
Total | 4,190 |  | 4,190 |  | 206,480

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2021-17206 Filed 8-11-21; 8:45 am]

BILLING CODE 4165-15-P